DEPARTMENT OF THE INTERIOR

Bureau of Reclamation

Notice of Availability of the Final Environmental Impact Statement for the Madera Irrigation District Water Supply Enhancement Project located in Madera County, California

AGENCY: Bureau of Reclamation, Interior.

ACTION: Notice of availability.

SUMMARY: The Bureau of Reclamation (Reclamation) has prepared a Final Environmental Impact Statement (EIS) for the Madera Irrigation District Water Supply Enhancement Project (MID WSEP). Reclamation proposes to approve the banking of up to 55,000 acre-feet per year of Central Valley Project (CVP) water outside the MID service area and the alteration of Reclamation-owned facilities. The total banking capacity of the MID WSEP is 250,000 acre-feet.

Portions of the 24.2 Canal, Section 8 Canal, Main Number 1 Canal, Cottonwood Creek, and Gravelly Ford Canal would be enlarged, extended, or improved. The MID WSEP would be completed in two phases. Phase 1 would involve recharge-related facilities only. Phase 2 would involve supplemental recharge facilities and facilities for recovery of banked water. The Final EIS addresses both phases.

DATES: Reclamation will not make a decision on the proposed action until at least 30 days after release of the Final EIS. After the 30-day waiting period, Reclamation will complete a Record of Decision (ROD). The ROD will state the action that will be implemented and will discuss all factors leading to the decision.

ADDRESSES: A compact disc or a copy of the Final EIS may be requested from Mr. Chuck Siek, Bureau of Reclamation, 1243 ‘N’ Street, Fresno, CA 93721-1831, 559-487-5138, TDD 800-735-2929 or via e-mail at csiek@usbr.gov. The Final EIS is also available on the following Web site: http://www.usbr.gov/mp/nepa/nepa_projdetails.cfm?Project_ID=3128.

FOR FURTHER INFORMATION CONTACT: Mr. Chuck Siek, Bureau of Reclamation, 559-487-5138, TDD 800-735-2929, or via e-mail at csiek@usbr.gov. See SUPPLEMENTARY INFORMATION section for locations where copies of the Final EIS are available.

SUPPLEMENTARY INFORMATION: The MID WSEP is located in Madera County, California. To increase water storage, enhance water supply reliability and flexibility for current and future water demand, and reduce local overdraft, MID proposes to implement the WSEP. MID would bank CVP water and other imported water in the aquifer underlying Madera Ranch. In wet years, water would be banked in the overdrafted aquifer for use in dry years. To help alleviate the overdraft condition, 10 percent of the water banked would remain in the aquifer.

A Notice of Availability announcing the release of the Draft EIS was published in the Federal Register on July 27, 2009 (74 FR 37051). The written comment period on the Draft EIS ended September 25, 2009. The Final EIS contains responses to all comments received and reflects comments and any additional information received during the review period.

The Draft EIS considered the direct, indirect, and cumulative effects on the physical, natural, and human environment that may result from the construction and operation of a water bank on Madera Ranch.

The Draft EIS addressed potentially significant environmental issues and recommends adequate and feasible mitigation measures to reduce or eliminate significant environmental impacts. The Draft EIS examined three banking alternatives as well as the no action alternative. A public meeting was held on August 27, 2009, in Madera, California.

The Final EIS includes a new alternative that was developed as a result of comments received on the Draft EIS. This alternative (Reduced Alternative B) represents a scaled-back version of Alternative B that uses fewer swales to minimize effects to vernal pools and limits the number of recharge basins to the number needed for the project to be practicable.

Copies of the Final EIS are available for public review at the following locations:

• Bureau of Reclamation, Denver Office Library, Building 67, Room 167, Denver Federal Center, 6th and Kipling, Denver, CO 80225.

• Natural Resources Library, Department of the Interior, 1849 C Street NW, Main Interior Building, Washington, DC 20240-0001.

• Bureau of Reclamation, Mid-Pacific Regional Office Library, 2800 Cottage Way, W-1825, Sacramento, CA 95825-1898.

• Bureau of Reclamation, South-Central California Area Office, 1243 ‘N’ Street, Fresno, CA 93721-1831.

• Madera Library, 121 North G Street, Madera, CA 93637.

• Chowchilla Library, 300 Kings Avenue, Chowchilla, CA 93610.

• Madera Ranchos Library, 37167 Ave 12 Suite 4C, Madera, CA 93636.

• Fresno County Public Library, 2420 Mariposa, Fresno, CA 93721.

• Clovis Regional Library, 1155 Fifth Street, Clovis, CA 93612.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: May 5, 2011.
David W. Gore,
Assistant Regional Director, Mid-Pacific Region.

[FR Doc. 2011-14210 Filed 6-7-11; 8:45 am]

BILLING CODE 4310-MN-P